DEPARTMENT OF AGRICULTURE

Submission for OMB Review; Comment Request

September 8, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Disaster Assistance—General (7 CFR part 1945-A).

OMB Control Number: 0560-0170.

Summary of Collection: The regulation at 7 CFR 1945-A, defines the responsibilities of the Secretary of Agriculture in making disaster area determinations, the types of incidents that can result in a disaster area determination, and the factors used in making disaster area determinations. The determination of a disaster area is prerequisite to authorizing emergency (EM) loans to qualified farmers. EM loan funds may be used to restore or replace essential property, pay all or part of production costs incurred by the farmer or rancher in the year of the disaster, pay for essential family living expenses, pay to reorganize the farming operation or refinance USDA and non-USDA creditors.

Need and Use of the Information: FSA will collect information to determine whether sufficient losses have been suffered and to warrant a Secretarial natural disaster designation, and to determine the extenuating circumstances exist to grant a natural disaster designation under the Secretary's discretionary authority. The information will be used by FSA to process State Governor requests for Secretarial natural disaster designations.

Description Of Respondents: State, Local or Tribal Government.

Number Of Respondents: 1,539.

Frequency Of Responses: Reporting: On occasion; Annually.

Total Burden Hours: 849.

Farm Service Agency

Title: Servicing Minor Program Loans.

OMB Control Number: 0560-0230.

Summary of Collection: Section 331 of the Consolidated Farm and Rural Development Act, 7 U.S.C. 1981 (“CONACT”) authorizes the Secretary of Agriculture to modify, subordinate and release terms of security instruments, leases, contracts, and agreements entered into by the Farm Service Agency (FSA). FSA Farm Loan Program provides supervised credit in the form of loans to family farmers and ranchers to purchase land and finance agricultural production. Included are the associated loans for irrigation and drainage and grazing association.

Need and Use of the Information: FSA will collect information related to a program benefit recipient or loan borrower requesting action on security they own, which was purchased with FSA loan funds, improved with FSA loan funds or has otherwise been mortgaged to FSA to secure a Government loan. The information collected is primarily financial data, such as borrower asset values, current financial information and public use and employment data. Failure to collect this information will result in rejection of the borrower's request.

Description of Respondents: Farms; Individuals or households; Business or other-for-profit; Not-for-profit institutions; State, Local and Tribal Government.

Number of Respondents: 194.

Frequency of Responses: Reporting: Annually.

Total Burden Hours: 104.

Ruth Brown,
Departmental Information Collection Clearance Officer.

[FR Doc. E6-15226 Filed 9-13-06; 8:45 am]

BILLING CODE 3410-05-P